OFFICE OF THE UNITED STATES TRADE REPRESENTATIVE

[Docket No. WTO/D-198]

WTO Consultations Regarding Romania's Use of Minimum Import Prices for Customs Valuation Purposes

AGENCY: Office of the United States Trade Representative.

ACTION: Notice; request for comments.

SUMMARY: The Office of the United States Trade Representative (USTR) is providing notice that on May 31, 2000, the United States requested consultations with Romania under the Marrakesh Agreement Establishing the World Trade Organization (WTO), regarding Romania's 1997 Customs Code (L141/1997) and Ministry of Finance General Customs Directive (Ordinance No. 5, 4 August 1998) and other related statutes and regulations. The United States alleges that Romania's customs code, directives, regulations and practice arbitrarily establish minimum and maximum import prices for such products as meat, eggs, fruits and vegetables, clothing, footwear, and certain distilled spirits. Additionally, Romania has instituted burdensome procedures for investigating import prices when the C.I.F. value falls below the minimum import price. The United States considers that this practice is inconsistent with Articles 1 through 7, and 12 of the Agreement on Customs Valuation (“CVA”); general notes 1, 2, and 4 of Annex 1 of the CVA; Articles II, X, and XI of the GATT 1994; Article 4.2 of the Agreement on Agriculture; and Articles 2 and 7 of the Agreement of Textiles and Clothing. Pursuant to Article 4.3 of the WTO Dispute Settlement Understanding (“DSU”), such consultations are to take place within a period of 30 days from the date of the request, or within a period otherwise mutually agreed between the United States and Romania. USTR invites written comments from the public concerning the issues raised in this dispute.

DATES: Although the USTR will accept any comments received during the course of the dispute settlement proceedings, comments should be submitted on or before July 31 to be assured of timely consideration by USTR.

ADDRESSES: Submit comments to Sandy McKinzy, Monitoring and Enforcement Unit, Office of the General Counsel, Room 122, Office of the United States Trade Representative, 600 17th Street, N.W., Washington, D.C., 20508, Attn: Romania Customs Valuation Dispute. Telephone: (202) 395-3581.

FOR FURTHER INFORMATION CONTACT: Melida N. Hodgson, Associate General Counsel, Office of the United States Trade Representative, 600 17th Street N.W., Washington, D.C., (202) 395-3582.

SUPPLEMENTARY INFORMATION: Section 127(b) of the Uruguay Round Agreements Act (URAA) (19 U.S.C. 3537(b)(1)) requires that notice and opportunity for comment be provided after the United States submits or receives a request for the establishment of a WTO dispute settlement panel. Consistent with this obligation, but in an effort to provide additional opportunity for comment, USTR is providing notice that consultations have been requested pursuant to the WTO Dispute Settlement Understanding. If such consultations should fail to resolve the matter and a dispute settlement panel is established pursuant to the DSU, such panel, which would hold its meeting in Geneva, Switzerland, would be expected to issue a report on its findings and recommendations within six to nine months after it is established.

Major Issues Raised by the United States

The Agreement on Customs Valuation sets forth a clear hierarchy for the determination of the customs value of imported goods, and in no case may the customs value be determined on the basis of a minimum price (Articles 1 through 7). Romania's customs code, directives and regulations arbitrarily establish minimum and maximum import prices for such products as meat, eggs, fruits and vegetables, clothing, footwear, and certain distilled spirits. Additionally, Romania has instituted burdensome procedures for investigating import prices when the C.I.F. value falls below the minimum import price.

Therefore, on May 31, 2000, the United States requested consultations with Romania under certain WTO agreements regarding Romania's customs valuation practices. Romania's customs valuation regime utilizes unpublished arbitrary minimum import prices to supplant the valuation methodology established in Articles 1 through 7 of the CVA, and therefore appears to be inconsistent with that Agreement. Furthermore, if an importer's declared value falls below the set minimum price, a “guarantee” is required based on the difference between the declared value and the minimum price. The use of this guarantee operates as a rejection of the declared value in a manner inconsistent with Articles 1 through 7 of the CVA and, in practice, a refund is not given to importers that established the correctness of the declared value. The United States' consultation request also alleges that Romania's customs regime is inconsistent with general notes 1, 2, and 4 of Annex 1 of the CVA; Articles II, X, and XI of the GATT 1994; Article 4.2 of the Agreement on Agriculture; and Articles 2 and 7 of the Agreement on Textiles and Clothing.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, N.W., Washington, D.C. 20508. The public file will include a listing of any comments received by USTR from the public with respect to the dispute; if a dispute settlement panel is convened, the U.S. submission to that panel, the submissions, or non-confidential summaries of submissions, to the panel received from other participants in the dispute, as well as the report of the panel; and, if applicable, the report of the Appellate Body. An appointment to review the public file (Docket WTO/D-198, Romania Customs Valuation Dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 00-14512 Filed 6-7-00; 8:45 am]

BILLING CODE 3190-01-M